DEPARTMENT OF COMMERCE

National Oceanic and Atmospheric Administration

Final Management Plans for the Lake Superior and Mission-Aransas National Estuarine Research Reserves

AGENCY: Office for Coastal Management, National Ocean Service, National Oceanic and Atmospheric Administration, U.S. Department of Commerce.

ACTION: Notice of approval of the revised management plan for the Lake Superior and Mission-Aransas National Estuarine Research Reserves.

SUMMARY: Notice is hereby given that the Office for Coastal Management, National Ocean Service, National Oceanic and Atmospheric Administration, U.S. Department of Commerce approves the revised management plans for the Lake Superior National Estuarine Research Reserve in Wisconsin and the Mission-Aransas National Estuarine Research Reserve in Texas. In accordance with applicable Federal regulations, the University of Wisconsin-Madison Division of Extension revised the Lake Superior Reserve's management plan, which replaces the plan previously approved in 2010, and the University of Texas at Austin revised the Mission-Aransas Reserve's management plan, which replaces the plan previously approved in 2015.

ADDRESSES: The approved Lake Superior Reserve management plan can be downloaded or viewed at https://lakesuperiorreserve.org/files/2020/03/lsnerr-management-plan.pdf. The approved Mission-Aransas Reserve management plan can be downloaded or viewed at https://sites.cns.utexas.edu/manerr/about/management-plan. These documents are also available by sending a written request to the point of contact identified below (see FOR FURTHER INFORMATION CONTACT).

FOR FURTHER INFORMATION CONTACT: For the Lake Superior revised management plan—Bridget Faust-Accola of NOAA's Office for Coastal Management, by email at bridget.faust@noaa.gov, phone at (651) 983-0235, or mail at: 1735 Lake Drive West, Chanhassen, MN 55317-8582. For the Mission-Aransas revised management plan—Matt Chasse of NOAA's Office for Coastal Management, by email at matt.chasse@noaa.gov, phone at 410-570-1020.

SUPPLEMENTARY INFORMATION: Pursuant to 15 CFR 921.33(c), a state must revise the management plan for a research reserve at least every five years. Changes to a reserve's management plan may be made only after receiving written approval from NOAA. NOAA approves changes to management plans via notice in the Federal Register. On November 02, 2020, NOAA issued a notice in the Federal Register announcing a thirty-day public comment period for the proposed revision of the management plan for the Lake Superior National Estuarine Research Reserve (81 FR 69320). On July 1, 2021, NOAA issued a notice in the Federal Register announcing a thirty-day public comment period for the proposed revision of the management plan for the Mission-Aransas National Estuarine Research Reserve (86 FR 35072). Responses to written and oral comments received, and an explanation of how comments were incorporated into the final versions of the revised management plans, are available in appendix B of the Lake Superior plan and appendix 8 of the Mission-Aransas plan.

The revised management plans outline each reserve's: Strategic goals and objectives; administrative structure; programs for conducting research and monitoring, education, and training; resource protection, restoration, and manipulation plans; public access and visitor use plans; consideration for future land acquisition; and facility development to support reserve operations.

The Lake Superior revised management plan focuses on changes to facilities through acquiring permanent housing for visiting students and researchers; growing the sectors by structurally supporting additional staff; advancing geographic information systems (GIS) and data management priorities; and developing a formal advisory board and strategic relationships with the private sector in the region. Since September 2010, the reserve has acquired permanent facilities for the reserve's operations; hired core sector leads and support staff; opened a public interpretive center and classroom; and expanded formal partnerships in research and education across the region. The revised management plan will serve as the guiding document for the 16,697-acre research reserve for the next five years.

The Mission-Aransas revised management plan builds upon past successes and accomplishments and is designed to address specific priority coastal management issues. The priority issues for research and monitoring include marine debris, industrial growth impacts, eDNA, freshwater inflow, biological monitoring, and sea level rise and coastal subsidence. For education and training, priorities to be addressed include connecting children and nature; outdoor education programming, climate change and its effects on coastal environments; coastal ecology and habitat diversity; marine debris and its impacts on the coastal environment; and stewardship of estuarine and coastal resources.

Since its inception, this reserve has engaged in strategic partnerships with its land managing partners and others based on mutual interests. These partnerships are expected to be maintained or expanded through the revised management plan including reserve administration of the Amos Rehabilitation Keep (ARK), providing animal rehabilitation services for species endemic to the estuary. The reserve is also planning to maintain and improve reserve facilities including Fennessey Ranch, the Bay Education Center, the ARK, and the Patton Marine Science Education Center.

Neither the Lake Superior or Mission-Aransas revised management plans change the total acreage of either reserve.

NOAA reviewed the environmental impacts of the Lake Superior and Mission-Aransas revised management plans and determined that these actions are categorically-excluded from further analysis under the National Environmental Policy Act, consistent with NOAA Administrative Order 216-6.]

Authority: 16 U.S.C. 1451 et seq.; 15 CFR 921.33.

Keelin S. Kuipers,
Deputy Director, Office for Coastal Management, National Ocean Service, National Oceanic and Atmospheric Administration.

[FR Doc. 2021-24062 Filed 11-3-21; 8:45 am]

BILLING CODE 3510-NK-P